DEPARTMENT OF HEALTH AND HUMAN SERVICES

Notice of Availability: Test Tools and Test Procedures Approved by the National Coordinator for the ONC HIT Certification Program

AGENCY: Office of the National Coordinator for Health Information Technology (ONC), Department of Health and Human Services.

ACTION: Notice.

SUMMARY: This notice announces the availability of test tools and test procedures approved by the National Coordinator for Health Information Technology (the National Coordinator) for the testing of EHR technology to the 2014 Edition Release 2 EHR certification criteria under the ONC HIT Certification Program. The approved test tools and test procedures are identified on the ONC Web site at: http://healthit.gov/policy-researchers-implementers/testing-and-test-methods. The test tools and test procedures for the “optional—transitions of care” certification criterion (§ 170.314(b)(8)) and the optional testing and certification for the “view, download, and transmit to 3rd party” certification criterion (§ 170.314(e)(1)) have not yet been approved.

FOR FURTHER INFORMATION CONTACT: Alicia Morton, Director, Office of Certification, Office of the National Coordinator for Health Information Technology, 202-549-7851.

SUPPLEMENTARY INFORMATION: On January 7, 2011, the Department of Health and Human Services issued a final rule establishing a permanent certification program for the purposes of testing and certifying health information technology (“Establishment of the Permanent Certification Program for Health Information Technology,” 76 FR 1262) (Permanent Certification Program final rule). The permanent certification program was renamed the “ONC HIT Certification Program” in a final rule published on September 4, 2012 (77 FR 54163) (“2014 Edition EHR Certification Criteria final rule”). In the preamble of the Permanent Certification Program final rule, we stated that when the National Coordinator had approved test tools and test procedures for certification criteria adopted by the Secretary ONC would publish a notice of availability in the Federal Register and identify the approved test tools and test procedures on the ONC Web site.

In the 2014 Edition Release 2 EHR Certification Criteria final rule the Secretary adopted additional and revised certification criteria as part of the 2014 Edition EHR certification criteria (79 FR 54430). The National Coordinator has approved test tools and test procedures for testing EHR technology to most of these additional and revised certification criteria under the ONC HIT Certification Program.¹ These approved test tools and test procedures are identified on the ONC Web site at: http://healthit.gov/policy-researchers-implementers/testing-and-test-methods. The test tools and test procedures for the “optional—transitions of care” certification criterion (§ 170.314(b)(8)) and the optional testing and certification for the “view, download, and transmit to 3rd party” certification criterion (§ 170.314(e)(1)) have not yet been approved. Draft test procedures for § 170.314(b)(8) and the optional testing and certification for § 170.314(e)(1) are available on the Web site listed above.

¹ These certification criteria are: § 170.314(a)(18), (a)(19), (a)(20), (b)(9), (f)(7), (g)(1), (g)(3), (h)(1), (h)(2), and (h)(3).

Authority: 42 U.S.C. 300jj-11.

Dated: January 21, 2015.
Lisa Lewis,
Acting National Coordinator for Health Information Technology.

[FR Doc. 2015-01535 Filed 1-27-15; 8:45 am]

BILLING CODE 4150-45-P